NATIONAL AERONAUTICS AND SPACE ADMINISTRATION

[Notice 05-136]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: September 16, 2005.

FOR FURTHER INFORMATION CONTACT: Jerry L. Seemann, Patent Counsel, Marshall Space Flight Center, Mail Code LS01, Huntsville, AL 35812; telephone (256) 544-6580; fax (256) 544-0258.

NASA Case No. MFS-31891-1: Video Sensor with Range Measurement Capability;

NASA Case No. MFS-31805-1: Rotational-Translational Fourier Imaging System Requiring Only One Grid Pair;

NASA Case No. MFS-31825-1: Systems, Method and Apparatus to Decontaminate an Ultra-High Vacuum System;

NASA Case No. MFS-31989-1: Systems, Methods and Apparatus for Vehicle Simulation;

NASA Case No. MFS-32175-1: Systems, Methods and Apparatus for Determining Physical Properties of Fluids;

NASA Case No. MFS-32214-1: Dual Expander Cycle Rocket Engine with an Intermediate, Closed-Cycle Heat Exchanger;

NASA Case No. MFS-32102-1: Boiler and Pressure Balls Monopropellant Thermal Rocket Engine.

Dated: September 12, 2005.
Keith T. Sefton,
Deputy General Counsel, Administration and Management.

[FR Doc. 05-18446 Filed 9-15-05; 8:45 am]

BILLING CODE 7510-13-P